NUCLEAR REGULATORY COMMISSION

[Docket Nos. 50-458 and 50-271; License Nos. NPF-47 and DPR-28; NRC-2009-0572]

Entergy Operations, Inc.; Entergy Nuclear Operations, Inc.; Entergy Gulf States Louisiana, LLC; Entergy Nuclear Vermont Yankee, LLC; River Bend Station, Unit 1; Vermont Yankee Nuclear Power Station; Receipt of Request for Action Under 10 CFR 2.206

Notice is hereby given that by petition dated August 22, 2009, Mr. Sherwood Martinelli, the Petitioner, has requested that the U.S. Nuclear Regulatory Commission (NRC) suspend the operating license of any Entergy nuclear power plant with a decommissioning trust fund shortfall, that the NRC take action to ensure that any shortfalls in the decommissioning trust funds be rectified, and that the NRC take certain other actions to ensure the integrity of the decommissioning trust funds.

The request is being evaluated pursuant to 10 CFR 2.206 of the Commission's regulations. The request has been referred to the Director of the Office of Nuclear Reactor Regulation (NRR). The NRC is accepting for review, pursuant to 10 CFR 2.206, those concerns identified in the petition associated with Entergy's Vermont Yankee and River Bend Nuclear Power Plants. The NRC staff's ongoing review indicates that only the decommissioning trust funds for Entergy's Vermont Yankee and River Bend Nuclear Power Plants do not currently meet the funding levels of 10 CFR 50.75, “Reporting and recordkeeping for decommissioning planning.” As provided by Section 2.206, appropriate action will be taken on this petition within a reasonable time.

A copy of the petition is available for inspection at the NRC's Public Document Room (PDR), located at One White Flint North, 11555 Rockville Pike (first floor), Rockville, Maryland, and from the Agencywide Documents Access and Management Systems (ADAMS) Public Electronic Reading Room on the NRC's Web site, http://www.nrc.gov/reading-rm/adams.html, under Accession No. ML092400492. Persons who do not have access to ADAMS or who encounter problems in accessing the documents located in ADAMS should contact the NRC PDR Reference staff by telephone at 800-397-4209 or 301-415-4737, or by e-mail to pdr.resource@nrc.gov.

Dated at Rockville, Maryland this 17th day of December 2009.
For the Nuclear Regulatory Commission.
Michele G. Evans,
Acting Director, Office of Nuclear Reactor Regulation.

[FR Doc. E9-30822 Filed 12-28-09; 8:45 am]

BILLING CODE 7590-01-P